SMALL BUSINESS ADMINISTRATION

Region IV District Advisory Council Meeting; Public Meeting

The U.S. Small Business Administration, Georgia District Office Advisory Council, will hold a public meeting on Friday, March 9, 2001 at 9 a.m., at the Columbus Hilton, 800 Front Avenue, Columbus, Georgia 31901; to discuss matters as may be presented by members, staff of the U.S. Small Business Administration, or others present.

For further information write or call Mr. Charles E. Anderson, District Director, U.S. Small Business Administration, 233 Peachtree Street, NE, Suite 1900, Atlanta, Georgia 30303; telephone (404) 331-0266.

Nancyellen Gentile,
Committee Management Officer.

[FR Doc. 01-3404 Filed 2-8-01; 8:45 am]

BILLING CODE 8025-01-P